DEPARTMENT OF TRANSPORTATION

Federal Aviation Administration

Approval of Noise Compatibility Program, Orlando International Airport, Orlando, FL

AGENCY: Federal Aviation Administration, DOT.

ACTION: Notice.

SUMMARY: The Federal Aviation Administration (FAA) announces its findings on the noise compatibility program submitted by the Greater Orlando Aviation Authority under the provisions of Title I of the Aviation Safety and Noise Abatement Act of 1979 (Pub. L. 96-193) and 14 CFR Part 150. These findings are made in recognition of the description of Federal and nonfederal responsibilities in Senate Report No. 96-52 (1980). On April 23, 2001, the FAA determined that the noise exposure maps submitted by the Greater Orlando Aviation Authority under Part 150 were in compliance with applicable requirements. On October 22, 2001, the Administrator approved the Orlando International Airport noise compatibility program. All of the recommendations of the program were approved. No program measures relating to new or revised flight procedures for noise abatement were proposed by the airport operator.

EFFECTIVE DATE: The effective date of the FAA's approval of the Orlando International Airport noise compatibility program is October 22, 2001.

FOR FURTHER INFORMATION CONTACT: Bonnie L. Baskin, Federal Aviation Administration, Orlando Airports District Office, 5950 Hazeltine National Dr., Suite 400, Orlando Florida 32822, (407) 812-6331, Extension 30. Documents reflecting this FAA action may be reviewed at this same location.

SUPPLEMENTARY INFORMATION: This notice announces that the FAA has given its overall approval to the noise compatibility program for Orlando International Airport, effective October 22, 2001.

Under Section 104(a) of the Aviation Safety and Noise Abatement Act of 1979 (hereinafter referred to as “the Act”), an airport operator who has previously submitted a noise exposure map may submit to the FAA a noise compatibility program which sets forth the measures taken or proposed by the airport operator for the reduction of existing noncompatible land uses and prevention of additional noncompatible land uses within the area covered by the noise exposure maps. The Act requires such programs to be developed in consultation with interested and affected parties including local communities, government agencies, airport users, and FAA personnel.

Each airport noise compatibility program developed in accordance with Federal Aviation Regulations (FAR) Part 150 is local program, not a Federal Program. The FAA does not substitute its judgment for that of the airport proprietor with respect to which measure should be recommended for action. The FAA's approval or disapproval of FAR Part 150 program recommendations is measured according to the standards expressed in Part 150 and the Act, and is limited to the following determinations:

a. The noise compatibility program was developed in accordance with the provisions and procedures of FAR Part 150;

b. Program measures are reasonably consistent with achieving the goals of reducing existing noncompatible land uses around the airport and preventing the introduction of additional noncompatible land uses;

c. Program measures would not create an undue burden on interstate or foreign commerce, unjustly discriminate against types or classes of aeronautical users, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAr Part 150 Section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Orlando, Florida.

The Greater Orlando Aviation Authority submitted to the FAA on March 30, 2001, the noise exposure maps, descriptions, and other documentation produced during the noise compatibility planning study conducted from July 1, 1997, through March 30, 2001. The Orlando International Airport noise exposure maps were determined by FAA to be in compliance with applicable requirements on April 23, 2001. Notice of this determination was published in the Federal Register on April 23, 2001.

The Orlando International Airport study contains a proposed noise compatibility program comprised of actions designed for phased implementation by airport management and adjacent jurisdictions from the date of study completion to the year 2006. It was requested that FAA evaluate and approve this material as a noise compatibility program as described in Section 104(b) of the Act. The FAA began its review of the program on April 23, 2001, and was required by a provision of the Act to approve or disapprove the program within 180 days (other than the use of new flight procedures for noise control). Failure to approve or disapprove such program within the 180-day period shall be deemed to be an approval of such program.

The submitted program contained four (4) proposed actions for noise mitigation on and off the airport. The FAA completed its review and determined that the procedural and substantive requirements of the Act and FAR Part 150 have been satisfied. The overall program, therefore, was approved by the Administrator effective October 22, 2001.

Out right approval was granted for all four (4) of the specific program elements. The approval action was for the following program measures:

Measure | Description/Land Use Measures | NCP Pages
1. Incorporation of the Overlay Zone in Land Development Codes | Zone C includes the DNL 65 dB noise contour and recommends avoiding new residential development, and does not permit new mobile home development. Zone D, corresponding to the DNL 60 dB noise contour, includes sound attenuation requirements, a waiver of claim, and notification to be provided for any new residential development. The Overlay Zone was incorporated into the respective land development codes of the City of Orlando and Orange County during the preparation of the FAR Part 150 Study. It is expected that land development code modifications will also be established during 2001 by Osceola County for the portion of the Overlay Zone that falls within their jurisdiction. FAA Action: Approved | Pages 11-1—11-8, 13-1; exhibits 11-1—11-6; and tables 11-1—11-4.
2. Sound Insulation Program with Avigation Easement | It is recommended that the Greater Orlando Aviation Authority offer to provide sound insulation, only where feasible and cost effective and in exchange for an avigation easement to homeowners located within the DNL 65+dB noise contour of the 2001 Noise Exposure Map. Sound insulation would only be beneficial to those residences where sound insulation can be effectively applied. Sound insulation for mobile homes, for example, would not be beneficial. This project includes 30 homes. It is also recommended that this program include insulation of Shenandoah Elementary School, which is located within the DNL 65 dB for the forecast NEM timeframe. This will reduce existing non-compatible land uses. FAA Action: Approved | Pages 12-1, 13-2, and 14-2.
3. Property Acquisition Program | It is recommended that the Greater Orlando Aviation Authority offer to provide voluntary acquisition of residential properties meeting the eligibility requirements of the FAA and those located within the 65 DNL contour. As indicated previously some of the these residences are mobile homes and are not suitable for sound insulation. Acquisition would be the only applicable noise mitigation action for these types of homes. In addition, others owning non-mobile home residences may prefer that their homes be acquired in lieu of sound insulation. Any offers of acquisition would be limited to those who acquired the residence prior to October 1, 1998. It is planned that any fixed residence purchased through this program will be, in turn, sound insulated and sold with an avigation easement. Mobile home owners who are renting property will be moved and the park land purchased. Mobile home owners who also own the property and wish to participate in this program will be required to sell the home and the underlying property. As with the sound insulation program, the acquisition of residences would be purely on a voluntary basis. FAA Action: Approved. Relocation must be consistent with 49 Code of Federal Regulation, Part 24 to be eligible for Federal financial assistance | Pages 12-2, 13-2, and 14-2; GOAA letter dated 9/24/01.
4. Acquisition of Noise Monitoring Equipment | The current noise and operations monitoring system has been an effective addition to the noise abatement program. The information provided by the system has helped to develop operational noise abatement measures, has allowed the accurate identification of the source of noise complaints and improved the resolutions of problems through follow-ups with those who registered the noise complaints. The benefit of future enhancements to the system (upgraded field monitors or improvements to system software and hardware) would allow GOAA to stay current with future technological advancements. All current equipment is anticipated to remain in place over the next five years. The acquisition of new noise monitoring equipment is not expected in the short term (less than five years). Justification for replacement equipment will be determined at the time of the proposed replacement. FAA Action: Approved. For purposes of aviation safety, this approval does not extend to the use of monitoring equipment for enforcement purposes by in-situ measurement of any pre-set noise thresholds | Pages 13-3, 14-2.

These determinations are set forth in detail in a Record of Approval endorsed by the Administrator on October 22, 2001. The Record of Approval, as well as other evaluation materials and the documents comprising the submittal, are available for review at the FAA office listed above and at the administrative office of the Greater Orlando Airport Authority.

Issued in Orlando, Florida on November 15, 2001.
John W. Reynolds, Jr.,
Acting Manager, Orlando Airports District Office.

[FR Doc. 01-29482 Filed 11-26-01; 8:45 am]

BILLING CODE 4910-13-M